SMALL BUSINESS ADMINISTRATION

[Disaster Declaration #20854 and #20855; NEW MEXICO Disaster Number NM-20010]

Presidential Declaration of a Major Disaster for Public Assistance Only for the State of New Mexico; Correction

AGENCY: U.S. Small Business Administration.

ACTION: Notice; correction.

SUMMARY: This is a correction of the Presidential declaration of a major disaster for Public Assistance Only for the State of New Mexico (FEMA-4843-DR), dated November 1, 2024.

Incident: Severe Storm and Flooding.

DATES: Issued on November 15, 2024.

Incident Period: October 19, 2024 through October 20, 2024.

Physical Loan Application Deadline Date: January 2, 2025.

Economic Injury (EIDL) Loan Application Deadline Date: August 1, 2025.

ADDRESSES: Visit the MySBA Loan Portal at https://lending.sba.gov to apply for a disaster assistance loan.

FOR FURTHER INFORMATION CONTACT: Vanessa Morgan, Office of Disaster Recovery & Resilience, U.S. Small Business Administration, 409 3rd Street SW, Suite 6050, Washington, DC 20416, (202) 205-6734.

SUPPLEMENTARY INFORMATION: The notice of the President's major disaster declaration for the State of New Mexico dated November 1, 2024 and published in the Federal Register on November 8, 2024 at 89 FR 88849 in the third column, is hereby corrected to change the physical loan application deadline date to January 2, 2025. Private Non-Profit organizations that provide essential services of a governmental nature may file disaster loan applications online using the MySBA Loan Portal https://lending.sba.gov or other locally announced locations. Please contact the SBA disaster assistance customer service center by email at disastercustomerservice@sba.gov or by phone at 1-800-659-2955 for further assistance.

The following areas have been determined to be adversely affected by the disaster:

Primary County: Chaves.

The Interest Rates are:

| Percent
For Physical Damage:
Non-Profit Organizations with Credit Available Elsewhere | 3.250
Non-Profit Organizations without Credit Available Elsewhere | 3.250
For Economic Injury:
Non-Profit Organizations without Credit Available Elsewhere | 3.250

The number assigned to this disaster for physical damage is 208546 and for economic injury is 208550.

(Catalog of Federal Domestic Assistance Number 59008)

Alejandro Contreras,
Acting Deputy Associate Administrator Office of Disaster Recovery & Resilience.

[FR Doc. 2024-27171 Filed 11-20-24; 8:45 am]

BILLING CODE 8026-09-P